FEDERAL HOUSING FINANCE AGENCY

[No. 2011-N-04]

Federal Home Loan Bank Members Selected for Community Support Review

AGENCY: Federal Housing Finance Agency.

ACTION: Notice.

SUMMARY: The Federal Housing Finance Agency (FHFA) is announcing the Federal Home Loan Bank (Bank) members it has selected for the 2010 second round review cycle under the FHFA's community support requirements regulation. This notice also prescribes the deadline by which Bank members selected for review must submit Community Support Statements to FHFA.

DATES: Bank members selected for the review cycle under the FHFA's community support requirements regulation must submit completed Community Support Statements to FHFA on or before April 18, 2011.

ADDRESSES: Bank members selected for the 2010 second round review cycle under the FHFA's community support requirements regulation must submit completed Community Support Statements to FHFA either by hard-copy mail at the Federal Housing Finance Agency, Housing Mission and Goals, 1625 Eye Street, NW., Washington, DC 20006, or by electronic mail at hmgcommunitysupportprogram@fhfa.gov.

FOR FURTHER INFORMATION CONTACT: Rona Richardson, Office Assistant, Housing Mission and Goals, Federal Housing Finance Agency, by telephone at 202-408-2945, by electronic mail at Rona.Richardson@FHFA.gov, or by hard-copy mail at the Federal Housing Finance Agency, 1625 Eye Street, NW., Washington, DC 20006.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the April 18, 2011 deadline prescribed in this notice. 12 CFR 1290.2(b)(1)(ii) and (c). On or before March 18, 2011, each Bank will notify the members in its district that have been selected for the 2010 first round community support review cycle that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2010 second round community support review cycle:

Federal Home Loan Bank of Boston—District 1
Essex Savings Bank | Essex | Connecticut.
Collinsville Savings Society | Collinsville | Connecticut.
Guilford Savings Bank | Guilford | Connecticut.
Milford National Bank and Trust Co | Milford | Massachusetts.
Equitable Co-operative Bank | Lynn | Massachusetts.
Peoples Federal Savings Bank | Brighton | Massachusetts.
North Middlesex Savings Bank | Ayer | Massachusetts.
Southbridge Savings Bank | Southbridge | Massachusetts.
Florence Savings Bank | Florence | Massachusetts.
Bristol County Savings Bank | Taunton | Massachusetts.
Dedham Institution for Savings | Dedham | Massachusetts.
Hyde Park Savings Bank | Hyde Park | Massachusetts.
Millbury Savings Bank | Millbury | Massachusetts.
Scituate Federal Savings Bank | Scituate | Massachusetts.
Athol Savings Bank | Athol | Massachusetts.
East Cambridge Savings Bank | Cambridge | Massachusetts.
Mansfield Co-operative Bank | Mansfield | Massachusetts.
S-Bank | Weymouth | Massachusetts.
OneUnited Bank | Boston | Massachusetts.
Citizens-Union Savings Bank | Fall River | Massachusetts.
Marblehead Bank | Marblehead | Massachusetts.
Family Federal Savings, FA | Fitchburg | Massachusetts.
First Federal Savings Bank of Boston | Boston | Massachusetts.
Hometown Bank, A Co-operative Bank | Webster | Massachusetts.
Monson Savings Bank | Monson | Massachusetts.
The Bank of Canton | Canton | Massachusetts.
Hampden Bank | Springfield | Massachusetts.
Katahdin Trust Company | Patten | Maine.
Franklin Savings Bank | Farmington | Maine.
Damariscotta Bank and Trust Company | Damariscotta | Maine.
Skowhegan Savings Bank | Skowhegan | Maine.
Union Bank | Morrisville | Vermont.
Randolph National Bank | Randolph | Vermont.
Federal Home Loan Bank of New York—District 2
Bogota Savings Bank | Teaneck | New Jersey.
Investors Savings Bank | Short Hills | New Jersey.
Morgan Stanley Trust | Jersey City | New Jersey.
Spencer Savings Bank, SLA | Elmwood Park | New Jersey.
Millington Savings Bank | Millington | New Jersey.
Schuyler Savings Bank | Kearny | New Jersey.
Metuchen Savings Bank | Metuchen | New Jersey.
Boiling Springs Savings Bank | Rutherford | New Jersey.
Freehold Savings & Loan Association | Freehold | New Jersey.
NVE Bank | Englewood | New Jersey.
Lincoln Park Savings Bank | Lincoln Park | New Jersey.
Sturdy Savings Bank | Cape May Court House | New Jersey.
Ocean City Home Bank | Ocean City | New Jersey.
The Bank | Woodbury | New Jersey.
Colonial Bank, FSB | Vineland | New Jersey.
Carver Federal Savings Bank | New York | New York.
Brooklyn Federal Savings Bank | Brooklyn | New York.
Chinatown Federal Savings Bank | New York | New York.
Elmira Savings Bank, FSB | Elmira | New York.
Maspeth Federal Savings and Loan Association | Maspeth | New York.
Country Bank | New York | New York.
Abacus Federal Savings Bank | New York | New York.
PathFinder Bank | Oswego | New York.
The Upstate National Bank | Rochester | New York.
Doral Bank | San Juan | Puerto Rico.
Federal Home Loan Bank of Pittsburgh—District 3
Artisans' Bank | Wilmington | Delaware.
Armstrong County Building & Loan Association | Ford City | Pennsylvania.
Coatesville Savings Bank | Coatesville | Pennsylvania.
Parkvale Savings Bank | Monroeville | Pennsylvania.
Westmoreland Federal Savings & Loan Association | Latrobe | Pennsylvania.
Peoples Neighborhood Bank | Hallstead | Pennsylvania.
Greenville Savings Bank | Greenville | Pennsylvania.
Union Bank and Trust Company | Pottsville | Pennsylvania.
ESSA Bank & Trust | Stroudsburg | Pennsylvania.
First Columbia Bank & Trust Company | Bloomsburg | Pennsylvania.
Altoona First Savings Bank | Altoona | Pennsylvania.
Investment Savings Bank | Altoona | Pennsylvania.
Citizens & Northern Bank | Wellsboro | Pennsylvania.
FirsTrust Bank | Carmichaels | Pennsylvania.
First National Community Bank | Johnstown | Pennsylvania.
Mifflinburg Bank & Trust Company | Charleroi | Pennsylvania.
The Honesdale National Bank | Lewistown | Pennsylvania.
FirsTrust Bank | Conshohocken | Pennsylvania.
First National Community Bank | Dunmore | Pennsylvania.
Mifflinburg Bank & Trust Company | Mifflinburg | Pennsylvania.
The Honesdale National Bank | Wilkes-Barre | Pennsylvania.
Sewickley Savings Bank | Sewickley | Pennsylvania.
The Muncy Bank and Trust Company | Muncy | Pennsylvania.
First Federal Savings Bank | Sistersville | West Virginia.
Huntington Federal Savings Bank | Huntington | West Virginia.
First National Bank | Ronceverte | West Virginia.
Doolin Security Savings Bank, FSB | New Martinsville | West Virginia.
Citizens Bank of Morgantown | Morgantown | West Virginia.
First Federal Savings & Loan Association of Ravenswood | Ravenswood | West Virginia.
Williamstown Bank, Inc | Williamstown | West Virginia.
Calhoun County Bank, Inc | Grantsville | West Virginia.
Federal Home Loan Bank of Atlanta—District 4
Phenix-Girard Bank | Phenix City | Alabama.
Citizens Bank, Inc | Robertsdale | Alabama.
The Headland National Bank | Headland | Alabama.
The Southern Bank Company | Gadsden | Alabama.
First Tuskegee Bank | Montgomery | Alabama.
Robertson Banking Company | Demopolis | Alabama.
The Bank of Vernon | Vernon | Alabama.
The Citizens Bank | Greensboro | Alabama.
Community Bank of Manatee | Bradenton | Florida.
Capital City Bank | Tallahassee | Florida.
Charlotte State Bank | Port Charlotte | Florida.
Progress Bank of Florida | Tampa | Florida.
BankAtlantic | Fort Lauderdale | Florida.
BankUnited, FSB | Miami Lakes | Florida.
Eagle National Bank of Miami | Miami | Florida.
Federal Trust Bank | Sanford | Florida.
International Finance Bank | Miami | Florida.
Bank of Belle Glade | Belle Glade | Florida.
Bay Bank and Trust | Panama City | Florida.
First Federal Savings and Loan of Valdosta | Valdosta | Georgia.
Greater Rome Bank | Rome | Georgia.
Elberton Federal Savings & Loan Association | Elberton | Georgia.
Appalachian Community Bank | Ellijay | Georgia.
Pineland State Bank | Metter | Georgia.
The Coastal Bank | Savannah | Georgia.
First National Bank of Coffee County | Douglas | Georgia.
Georgia Bank and Trust Company of Augusta | Augusta | Georgia.
Homewood Federal Savings Bank | Baltimore | Maryland.
Baltimore County Savings Bank, FSB | Baltimore | Maryland.
Madison Bohemian Savings Bank | Forest Hills | Maryland.
Fraternity Federal Savings & Loan Association | Baltimore | Maryland.
Jarrettsville Federal S&L Association | Jarrettsville | Maryland.
American Bank | Silver Spring | Maryland.
AmericasBank | Towson | Maryland.
Hamilton Federal Bank | Baltimore | Maryland.
Maryland Bank and Trust Company, N.A | Waldorf | Maryland.
Colombo Bank | Rockville | Maryland.
Advance Bank | Baltimore | Maryland.
The Talbot Bank of Easton | Easton | Maryland.
Sykesville Federal Savings Association | Sykesville | Maryland.
First Bank | Troy | North Carolina.
The Citizens Bank | Olanta | South Carolina.
The Peoples Bank | Iva | South Carolina.
The Palmetto Bank | Laurens | South Carolina.
Woodruff Federal Savings & Loan Association | Woodruff | South Carolina.
Spratt Savings and Loan Association | Chester | South Carolina.
First Palmetto Savings Bank, FSB | Camden | South Carolina.
Plantation Federal Bank | Pawleys Island | South Carolina.
Virginia Commerce Bank | Arlington | Virginia.
EVB | Glenns | Virginia.
Shore Bank | Onley | Virginia.
First and Citizens Bank | Monterey | Virginia.
Powell Valley National Bank | Jonesville | Virginia.
Federal Home Loan Bank of Cincinnati—District 5
First Community Bank of Western Kentucky, Inc | Clinton | Kentucky.
United Citizens Bank & Trust Company | Campbellsburg | Kentucky.
Clinton Bank | Clinton | Kentucky.
Peoples Bank of Mt. Washington | Mt. Washington | Kentucky.
First Federal Savings & Loan Association | Hazard | Kentucky.
Farmers and Traders Bank of Campton | Campton | Kentucky.
The First Capital Bank of Kentucky | Louisville | Kentucky.
United Kentucky Bank of Pendleton County, Inc | Falmouth | Kentucky.
Citizens Federal Savings and Loan Association of Covington | Covington | Kentucky.
South Central Bank, FSB | Elizabethton | Kentucky.
Bank of the Bluegrass & Trust Company | Lexington | Kentucky.
Fredonia Valley Bank | Fredonia | Kentucky.
First Southern National Bank | Stanford | Kentucky.
Peoples Security Bank | Louisa | Kentucky.
Farmers Bank & Trust Company, Inc | Princeton | Kentucky.
Republic Bank | Louisville | Kentucky.
Van Wert Federal Savings Bank | Van Wert | Ohio.
Fidelity Federal Savings and Loan Association of Delaware | Delaware | Ohio.
The Mechanics Savings Bank | Mansfield | Ohio.
First FS&LA of Newark | Newark | Ohio.
The Waterford Commercial and Savings Bank | Waterford | Ohio.
The Nelsonville Home and Savings Association | Nelsonville | Ohio.
Peoples Federal Savings and Loan Association of Sidney | Sidney | Ohio.
The Savings Bank | Circleville | Ohio.
Liberty National Bank | Ada | Ohio.
Peoples Bank, National Association | Marietta | Ohio.
Commodore Bank | Somerset | Ohio.
Kingston National Bank | Kingston | Ohio.
The Cortland Savings and Banking Company | Cortland | Ohio.
First Federal Community Bank of Bucyrus | Bucyrus | Ohio.
First Federal Savings & Loan Association of Lakewood | Lakewood | Ohio.
Perpetual Federal Savings Bank | Urbana | Ohio.
New Carlisle Federal Savings Bank | New Carlisle | Ohio.
Liberty Savings Bank, FSB | Wilmington | Ohio.
Third Federal Savings & Loan Association of Cleveland | Cleveland | Ohio.
The Peoples Bank Company | Coldwater | Ohio.
Heartland Bank | Gahanna | Ohio.
The Valley Central Savings Bank | Reading | Ohio.
The Middlefield Banking Company | Middlefield | Ohio.
Merchants National Bank | Hillsboro | Ohio.
Somerville National Bank | Somerville | Ohio.
United Midwest Savings Bank | DeGraff | Ohio.
First City Bank | Columbus | Ohio.
First Federal Community Bank | Dover | Ohio.
First Safety Bank | Cincinnati | Ohio.
Citizens Community Bank | Winchester | Tennessee.
Volunteer Federal Savings & Loan Association of Madisonville | Madisonville | Tennessee.
Jefferson Federal Bank | Morristown | Tennessee.
Progressive Savings Bank, FSB | Jamestown | Tennessee.
First National Bank of Tennessee | Livingston | Tennessee.
Trust One Bank | Memphis | Tennessee.
Bank of Crockett | Bells | Tennessee.
Farmers & Merchants Bank | Adamsville | Tennessee.
Decatur County Bank | Decaturville | Tennessee.
Newport Federal Bank | Newport | Tennessee.
Wilson Bank and Trust | Lebanon | Tennessee.
Federal Home Loan Bank of Indianapolis—District 6
Lake Federal Bank, FSB | Hammond | Indianapolis.
Boonville Federal Savings Bank | Boonville | Indianapolis.
First Federal Savings Bank—Angola | Angola | Indianapolis.
Riddell National Bank | Brazil | Indianapolis.
Union Savings & Loan Association | Connersville | Indianapolis.
Newton County Loan & Savings Association, FSB | Goodland | Indianapolis.
Community Bank | Noblesville | Indianapolis.
Crossroads Bank | Wabash | Indianapolis.
Farmers Bank | Frankfort | Indianapolis.
First Bank Richmond, N.A | Richmond | Indianapolis.
First Federal Savings & Loan of Greensburg | Greensburg | Indianapolis.
First Federal Savings Bank | Washington | Indianapolis.
Grant County State Bank | Swayzee | Indianapolis.
Kentland Federal Savings and Loan Association | Kentland | Indianapolis.
Liberty Savings Bank, FSB | Whiting | Indianapolis.
Logansport Savings Bank, FSB | Logansport | Indianapolis.
The First National Bank of Odon | Odon | Indianapolis.
Pacesetter Bank | Hartford City | Indianapolis.
Scottsburg Building & Loan Association | Scottsburg | Indianapolis.
Select Bank | Grand Rapids | Michigan.
First National Bank of Wakefield | Wakefield | Michigan.
Edgewater Bank | St. Joseph | Michigan.
Bay Port State Bank | Bay Port | Michigan.
New Buffalo Savings Bank, FSB | New Buffalo | Michigan.
Monarch Community Bank | Coldwater | Michigan.
Peoples State Bank of Munising | Munising | Michigan.
Union Bank | Lake Odessa | Michigan.
Huron Community Bank | East Tawas | Michigan.
Central Savings Bank | Sault Ste. Marie | Michigan.
Federal Home Loan Bank of Chicago—District 7
American Enterprise Bank | Buffalo Grove | Illinois.
CIBM | Champaign | Illinois.
City National Bank of Metropolis | Metropolis | Illinois.
Community Savings Bank | Chicago | Illinois.
Cornerstone Bank & Trust, N.A | Carrollton | Illinois.
First National Bank of Grant Park | Grant Park | Illinois.
First Robinson Savings Bank, N.A | Robinson | Illinois.
Flora Bank & Trust | Flora | Illinois.
Home Federal Savings & Loan Association of Collinsville | Collinsville | Illinois.
Illinois-Service Federal Savings & Loan Association | Chicago | Illinois.
Liberty Bank for Savings | Chicago | Illinois.
McHenry Savings Bank | McHenry | Illinois.
Nashville Savings Bank | Nashville | Illinois.
Pulaski Savings Bank | Chicago | Illinois.
The Farmers Bank of Mount Pulaski | Mt. Pulaski | Illinois.
The First National Bank | Vandalia | Illinois.
Town & Country Bank | Springfield | Illinois.
Brown County State Bank | Mount Sterling | Illinois.
Collinsville Building and Loan Association | Collinsville | Illinois.
GreenChoice Bank | Chicago | Illinois.
First Bank of Manhattan | Manhattan | Illinois.
First Federal Savings & Loan Association of Central Illinois | Shelbyville | Illinois.
Forreston State Bank | Forreston | Illinois.
Guardian Savings Bank | Granite City | Illinois.
Heritage State Bank | Lawrenceville | Illinois.
Lisle Savings Bank | Lisle | Illinois.
Milford Building & Loan Association | Milford | Illinois.
The First National Bank in Carlyle | Carlyle | Illinois.
Wabash Savings Bank | Mount Carmel | Illinois.
West Town Savings Bank | Cicero | Illinois.
First State Bank of Beecher City | Beecher City | Illinois.
First Chicago Bank & Trust | Chicago | Illinois.
South Central Bank, National Association | Chicago | Illinois.
Bank of Brodhead | Brodhead | Wisconsin.
Bank of Lake Mills | Lake Mills | Wisconsin.
Banner Banks | Birnamwood | Wisconsin.
BLC Community Bank | Little Chute | Wisconsin.
Community Business Bank | Sauk City | Wisconsin.
Farmers & Merchants Bank | Tomah | Wisconsin.
First Bank | Tomah | Wisconsin.
First Community Bank | Milton | Wisconsin.
Greenleaf Wayside Bank | Greenleaf | Wisconsin.
Heritage Bank | Spencer | Wisconsin.
Hustisford State Bank | Hustisford | Wisconsin.
ISB Community Bank | Ixonia | Wisconsin.
Mid America Bank | Janesville | Wisconsin.
Milton Savings Bank | Milton | Wisconsin.
North Shore Bank, FSB | Brookfield | Wisconsin.
Paper City Savings Association | Wisconsin Rapids | Wisconsin.
Rural American Bank—Luck | Luck | Wisconsin.
Superior Savings Bank | Superior | Wisconsin.
Union State Bank | Kewaunee | Wisconsin.
West Pointe Bank | Oshkosh | Wisconsin.
Dairy State Bank | Rice Lake | Wisconsin.
National Exchange Bank & Trust | Fond du Lac | Wisconsin.
Federal Home Loan Bank of Des Moines—District 8
Citizens State Bank | Fort Dodge | Iowa.
Clarke County State Bank | Osceola | Iowa.
First Federal Savings Bank of Creston, FSB | Creston | Iowa.
Iowa Trust and Savings Bank | Centerville | Iowa.
American State Bank | Sioux Center | Iowa.
Boone Bank & Trust Company | Boone | Iowa.
City State Bank | Norwalk | Iowa.
Peoples State Bank | Albia | Iowa.
West Liberty State Bank | West Liberty | Iowa.
First Community Bank | Keokuk | Iowa.
Iowa State Savings Bank | Knoxville | Iowa.
Sibley State Bank | Sibley | Iowa.
New Albin Savings Bank | New Albin | Iowa.
Cedar Valley Bank & Trust | La Porte City | Iowa.
Dubuque Bank & Trust Company | Dubuque | Iowa.
Principal Bank | Des Moines | Iowa.
Lincoln Savings Bank | Cedar Falls | Iowa.
United Community Bank | Milford | Iowa.
Citizens Savings Bank | Anamosa | Iowa.
Heritage Bank | Marion | Iowa.
Iowa Prairie Bank | Brunsville | Iowa.
Keokuk Savings Bank & Trust Company | Keokuk | Iowa.
The First National Bank of Le Center | Le Center | Minnesota.
Prior Lake State Bank | Prior Lake | Minnesota.
First State Bank Minnesota | Le Roy | Minnesota.
Citizens Independent Bank | St. Louis Park | Minnesota.
Farmers and Merchants State Bank of Blooming Prairie | Blooming Prairie | Minnesota.
The First National Bank of Osakis | Osakis | Minnesota.
State Bank in Eden Valley | Eden Valley | Minnesota.
Bank Midwest | Fairmont | Minnesota.
Bremer Bank, N.A | Alexandria | Minnesota.
First National Bank of Menahga and Sebeka | Menahga | Minnesota.
First Minnesota Bank | Minnetonka | Minnesota.
First Bank Blue Earth | Blue Earth | Minnesota.
Home Savings of America | Little Falls | Minnesota.
Minnwest Bank South | Tracy | Minnesota.
Star Bank | Bertha | Minnesota.
State Bank of Kimball | Kimball | Minnesota.
1st Cameron State Bank | Cameron | Missouri.
Security Bank of the Ozarks | Eminence | Missouri.
Southwest Missouri Bank | Carthage | Missouri.
Bank 21 | Carrollton | Missouri.
Community State Bank | Shelbina | Missouri.
Rockwood Bank | Eureka | Missouri.
Bank of Urbana | Urbana | Missouri.
Clay County Savings Bank | Liberty | Missouri.
Bremen Bank and Trust Company | St. Louis | Missouri.
First Home Savings Bank | Mountain Grove | Missouri.
First National Bank | Camdenton | Missouri.
KCB Bank | Kearney | Missouri.
Missouri Bank & Trust Company | Kansas City | Missouri.
Southern Commercial Bank | St. Louis | Missouri.
Belgrade State Bank | Belgrade | Missouri.
Boulevard Bank | Neosho | Missouri.
Community Bank, N.A | Summersville | Missouri.
First Bank | Creve Coeur | Missouri.
O'Bannon Banking Company | Buffalo | Missouri.
Peoples Bank & Trust Company | Troy | Missouri.
Progressive Ozark Bank, FSB | Salem | Missouri.
The Missouri Bank | Warrenton | Missouri.
BankLiberty | Liberty | Missouri.
First State Bank of North Dakota | Arthur | North Dakota.
Liberty State Bank | Powers Lake | North Dakota.
Farmers and Merchants State Bank | Plankinton | South Dakota.
Campbell County Bank, Inc | Herreid | South Dakota.
CorTrust Bank, National Association | Mitchell | South Dakota.
First Premier Bank | Sioux Falls | South Dakota.
Dacotah Bank | Aberdeen | South Dakota.
Dakota Heritage State Bank | Chancellor | South Dakota.
Reliabank Dakota | Estelline | South Dakota.
Commercial State Bank | Wagner | South Dakota.
Bank 360 | Beresford | South Dakota.
First Savings Bank | Beresford | South Dakota.
First Western Federal Savings Bank | Rapid City | South Dakota.
Plains Commerce Bank | Hoven | South Dakota.
First Bank & Trust | Brookings | South Dakota.
Federal Home Loan Bank of Dallas—District 9
Farmers & Merchants Bank | Stuttgart | Arkansas.
Union Bank and Trust Company | Monticello | Arkansas.
Community First Bank | Harrison | Arkansas.
First Arkansas Bank & Trust | Jacksonville | Arkansas.
Heartland Community Bank | Bryant | Arkansas.
Arkansas Bankers' Bank | Little Rock | Arkansas.
Bank of New Orleans | Metairie | Louisiana.
Bank of Zachary | Zachary | Louisiana.
Citizens Bank & Trust Company | Plaquemine | Louisiana.
Community Trust Bank | Choudrant | Louisiana.
Fifth District Savings Bank | New Orleans | Louisiana.
First Financial Bank & Trust Company | Plaquemine | Louisiana.
First National Bank USA | Boutte | Louisiana.
Plaquemine Bank & Trust Company | Plaquemine | Louisiana.
The Union Bank | Marksville | Louisiana.
Abbeville Building & Loan, a State Chartered Savings Bank | Abbeville | Louisiana.
Central Progressive Bank | Lacombe | Louisiana.
Crescent Bank & Trust | New Orleans | Louisiana.
First Federal Bank of Louisiana | Lake Charles | Louisiana.
Iberia Bank | Lafayette | Louisiana.
MBL Bank | Minden | Louisiana.
United Community Bank | Gonzales | Louisiana.
Rayne Building and Loan Association | Rayne | Louisiana.
Magnolia State Bank | Bay Springs | Mississippi.
State Bank & Trust Company | Brookhaven | Mississippi.
Bank of Okalona | Okolona | Mississippi.
First National Bank of Pontotoc | Pontotoc | Mississippi.
Grand Bank for Savings, FSB | Hattiesburg | Mississippi.
OmniBank | Jackson | Mississippi.
The First, A National Banking Association | Hattiesburg | Mississippi.
Trustmark National Bank | Jackson | Mississippi.
Bank 34 | Alamogordo | New Mexico.
The Bank of Las Vegas | Las Vegas | New Mexico.
The First National Bank of New Mexico | Clayton | New Mexico.
Citizens Bank of Las Cruces | Las Cruces | New Mexico.
Union Savings Bank | Albuquerque | New Mexico.
American National Bank of Texas | Terrell | Texas.
Citizens State Bank | Sealy | Texas.
First Federal Community Bank | Paris | Texas.
First State Bank Central Texas | Temple | Texas.
Shelby Savings Bank, SSB | Center | Texas.
Amplify Federal Credit Union | Austin | Texas.
Chappell Hill Bank | Chappell Hill | Texas.
Charter Bank | Corpus Christi | Texas.
Citizens National Bank | Crockett | Texas.
Falcon International Bank | Laredo | Texas.
First Bank of Conroe, N.A | Conroe | Texas.
First National Bank in Dalhart | Dalhart | Texas.
First State Bank | Louise | Texas.
Hill Bank & Trust Company | Weimar | Texas.
Justin State Bank | Justin | Texas.
Peoples Bank | Paris | Texas.
Preston National Bank | Dallas | Texas.
Robert Lee State Bank | Robert Lee | Texas.
Spring Hill State Bank | Longview | Texas.
The Brenham National Bank | Brenham | Texas.
Wood County National Bank | Quitman | Texas.
Gladewater National Bank | Gladewater | Texas.
The First National Bank of Chillicothe | Chillicothe | Texas.
First State Bank | Stratford | Texas.
Meridian Bank Texas | Fort Worth | Texas.
Citizens 1st Bank | Tyler | Texas.
Federal Home Loan Bank of Topeka—District 10
Rio Grande Savings and Loan Association | Monte Vista | Colorado.
High Plains Bank | Flagler | Colorado.
Morgan Federal Bank | Fort Morgan | Colorado.
Colorado Capital Bank | Castle Rock | Colorado.
Rocky Mountain Bank and Trust | Colorado Springs | Colorado.
Collegiate Peaks Bank | Buena Vista | Colorado.
Century Savings & Loan Association | Trinidad | Colorado.
Farmers State Bank of Calhan | Calhan | Colorado.
First National Bank of Durango | Durango | Colorado.
Castle Rock Bank | Castle Rock | Colorado.
Colorado Federal Savings Bank | Greenwood Village | Colorado.
Community Banks of Colorado | Greenwood Village | Colorado.
Park State Bank & Trust | Woodland Park | Colorado.
San Luis Valley Federal Bank | Alamosa | Colorado.
Valley Bank & Trust Company | Brighton | Colorado.
First Bank Kansas | Salina | Kansas.
Peoples Exchange Bank | Belleville | Kansas.
Argentine Federal Savings | Kansas City | Kansas.
Peabody State Bank | Peabody | Kansas.
Garden Plain State Bank | Wichita | Kansas.
Citizens Bank, N.A | Fort Scott | Kansas.
Girard National Bank | Girard | Kansas.
Stockton National Bank | Stockton | Kansas.
The Roxbury Bank | Roxbury | Kansas.
Bank of Blue Valley | Overland Park | Kansas.
Central National Bank | Junction City | Kansas.
Citizens Bank of Kansas, N.A | Kingman | Kansas.
First Federal Savings & Loan Association of Olathe | Olathe | Kansas.
Golden Belt Bank, FSA | Hays | Kansas.
Kanza Bank | Kingman | Kansas.
Midland National Bank | Newton | Kansas.
The Citizens State Bank | Moundridge | Kansas.
The Peoples Bank | Pratt | Kansas.
The Elk State Bank | Clyde | Kansas.
Horizon Bank | Waverly | Nebraska.
Security National Bank of Omaha | Omaha | Nebraska.
Pinnacle Bank | Gretna | Nebraska.
The Nehawka Bank | Nehawka | Nebraska.
Security Home Bank | Malmo | Nebraska.
Farmers & Merchants National Bank | Ashland | Nebraska.
Platte Valley National Bank | Scottsbluff | Nebraska.
Bank of the Panhandle | Guymon | Oklahoma.
First National Bank in Marlow | Marlow | Oklahoma.
First State Bank of Porter | Locust Grove | Oklahoma.
First American Bank | Norman | Oklahoma.
Bank of the Lakes, N.A | Owasso | Oklahoma.
BancFirst | Oklahoma City | Oklahoma.
Citizens Security Bank & Trust Company | Bixby | Oklahoma.
McCurtain County National Bank | Idabel | Oklahoma.
The Farmers State Bank | Quinton | Oklahoma.
First National Bank & Trust Company | Shawnee | Oklahoma.
First National Bank & Trust Company of Ardmore | Ardmore | Oklahoma.
First Texoma National Bank | Durant | Oklahoma.
Oklahoma Bank & Trust Company | Clinton | Oklahoma.
The First National Bank of Vinita | Vinita | Oklahoma.
Valley National Bank | Tulsa | Oklahoma.
Platte Valley Bank | Torrington | Wyoming.
Federal Home Loan Bank of San Francisco—District 11
Bank 1440 | Phoenix | Arizona.
Palm Desert National Bank | Palm Desert | California.
El Dorado Savings Bank | Placerville | California.
Preferred Bank | Los Angeles | California.
Xceed Financial Federal Credit Union | El Segundo | California.
Monterey County Bank | Monterey | California.
Malaga Bank, FSB | Palos Verdes Estates | California.
American First Credit Union | La Habra | California.
Broadway Federal Bank, FSB | Los Angeles | California.
Oak Valley Community Bank | Oakdale | California.
Bank of America California, N.A | Walnut Creek | California.
Fremont Bank | Fremont | California.
Silvergate Bank | La Jolla | California.
AltaPacific Bank | Santa Rosa | California.
American Perspective Bank | San Luis Obispo | California.
Bank of San Francisco | San Francisco | California.
Bank of Southern California, National Association | Ramona | California.
Bay Federal Credit Union | Capitola | California.
California State Automobile Association Inter-Insurance Bureau | San Francisco | California.
1st Commerce Bank (NV) | North Las Vegas | Nevada.
Federal Home Loan Bank of Seattle—District 12
Mt. McKinley Bank | Fairbanks | Alaska.
BankPacific | Hagatna | Guam.
First Federal Savings Bank of Twin Falls | Twin Falls | Idaho.
Ireland Bank | Malad | Idaho.
First Security Bank of Malta | Malta | Montana.
Pioneer Federal Savings & Loan Association | Dillon | Montana.
Ravalli County Bank | Hamilton | Montana.
United Banks, N.A | Absarokee | Montana.
Glacier Bank | Kalispell | Montana.
American Federal Savings Bank | Helena | Montana.
Bank of American Fork | American Fork | Utah.
Trans West Credit Union | Salt Lake City | Utah.
Sterling Savings Bank | Spokane | Washington.
Kitsap Bank | Port Orchard | Washington.
Washington Federal Savings | Seattle | Washington.
Horizon Bank | Bellingham | Washington.
Cascade Bank | Everett | Washington.
Bank of Fairfield | Fairfield | Washington.

II. Public Comments

To encourage the submission of public comments on the community support performance of Bank members, on or before March 18, 2011, each Bank will notify its Advisory Council and nonprofit housing developers, community groups, and other interested parties in its district of the members selected for community support review in the 2010 second round review cycle. 12 CFR 1290.2(b)(2)(ii). In reviewing a member for community support compliance, FHFA will consider any public comments it has received concerning the member 12 CFR 1290.2(d). To ensure consideration by FHFA, comments concerning the community support performance of members selected for the 2010 first round review cycle must be delivered to FHFA, either by hard-copy mail at the Federal Housing Finance Agency, Housing Mission and Goals, 1625 Eye Street, NW., Washington, DC 20006, or by electronic mail to hmgcommunitysupportprogram@fhfa.gov on or before the April 18, 2011 deadline for submission of Community Support Statements.

Dated: February 25, 2011.
Edward J. DeMarco,
Acting Director, Federal Housing Finance Agency.

[FR Doc. 2011-4979 Filed 3-3-11; 8:45 am]

BILLING CODE 8070-01-P